DEPARTMENT OF THE INTERIOR

Bureau of Land Management

[AZ-020-00-5101-ER-A172; AZA-31094]

Notice of Intent To Prepare an Environmental Impact Statement (EIS) on 500kv Line in Maricopa County, Arizona

AGENCY: Bureau of Land Management, Interior.

ACTION: Notice of intent to prepare an EIS on a 500kv line and notice of scoping meetings.

SUMMARY: Notice is hereby given that the Bureau of Land Management (BLM) is proposing to prepare an EIS for Arizona Public Service Company's (APS) Southwest Valley 500kv Transmission Line Project in the southwest metropolitan area of Phoenix, Arizona.

DATES: The public, state, and local governments, and other federal agencies are asked to participate in the EIS process. Written comments on the initial scoping process will be accepted until May 19, 2000. Public scoping meetings will be held from 6 p.m. to 9 p.m. on May 2, 2000, at the Millennium High School, 14802 W. Wigwam Boulevard, Goodyear, Arizona, and from 6 p.m. to 9 p.m. on May 4, 2000, at the Buckeye Union High School Gym, 902 E. Eason Avenue, Buckeye, Arizona. Additional meetings will be considered as appropriate.

SUPPLEMENTARY INFORMATION: APS plans to construct and operate a 500kv transmission line from the existing Palo Verde Nuclear Generating Station (approximately 45 miles west of Phoenix, Arizona) to a proposed 500/230kv substation located 30 to 50 miles to the east. The project would provide needed energy to the Phoenix metropolitan area and the southwest valley. The proposed project will take approximately one year to construct, with an in-service date of January 2003. The BLM's scooping process for the EIS will include: (1) Identification of significant issues; (2) identification of sensitive or critical environmental impacts; (3) identification of reasonable alternative transmission line routes and substation sites; and (4) notifying interested groups, individuals, and agencies so that additional information concerning these issues and concerns can be obtained.

ADDRESSES: Comments should be sent to Michael A. Taylor, Phoenix Field Manager, Bureau of Land Management, Phoenix Field Office, 2015 W. Deer Valley Road, Phoenix, Arizona 85027.

FOR FURTHER INFORMATION CONTACT: Kathy Pedrick, Project Manager, Phoenix Field Office, 2015 W. Deer Valley Road, Phoenix, Arizona 85027, (623) 580-5500.

Dated: April 5, 2000.
Margo E. Fitts,
Assistant Field Manager, Support Services.

[FR Doc. 00-9671 Filed 4-17-00; 8:45 am]

BILLING CODE 4310-32-M